DEPARTMENT OF THE TREASURY

United States Mint

Notice of Stakeholder Meeting

AGENCY: United States Mint, Treasury.

ACTION: Notice of Stakeholder Meeting.

SUMMARY: Pursuant to the Coin Modernization, Oversight, and Continuity Act of 2010 (Pub. L. 111-302), the United States Mint announces its second stakeholder meeting. This meeting continues the dialogue concerning the Bureau's ongoing Research and Development of alternative metal compositions for circulating coinage. This opportunity is for interested members of businesses, industries, and agencies.

Date: Wednesday, March 18, 2015

Time: 10:30 a.m. to 4:30 p.m. (EDT)

Location: United States Mint; 801 Ninth Street NW., Washington, DC, 2nd floor

Subject: The purpose of this meeting is to invite individual members of stakeholder organizations to share their perspectives on how the United States Mint would validate the acceptance of alternative metal compositions presented in the most recent report to Congress prior to circulation. The alternative metal compositions include those with a similar electromagnetic signature (EMS) and weight characteristics that fall within the acceptable tolerance range of the United States Mint's current circulating coins as well as alternative metals with different EMS and weight characteristics than current circulating coins. This input will support the Secretary of the Treasury in understanding the balance of interests and impacts to the public, private industry stakeholders, and the Government. Conducting a second stakeholder meeting is one component of the United States Mint's continued outreach program to ensure to the greatest extent practicable, that any new coins work without interruption in existing coin acceptance equipment without modification and additional costs to industry stakeholders.

Information: Attendees are invited to the following link for a copy of the United States Mint's bi-annual report to Congress, December 2014. http://www.usmint.gov/about_the_mint/?action=biennialreport

The report includes a production costs analysis, coin industry stakeholder feedback, the alternative metals study phase II technical report, and estimated costs of current and alternative metals.

SUPPLEMENTARY INFORMATION: Under the Coin Modernization, Oversight, and Continuity Act of 2010, in conducting research and development on circulating coins, the Secretary of the Treasury is required to consider:

(A) Factors relevant to the potential impact of any revisions to the composition of the material used in coin production on the current coinage material suppliers;

(B) Factors relevant to the ease of use and ability to co-circulate new coinage materials, including the effect on vending machines and commercial coin processing equipment and making certain, to the greatest extent practicable, that any new coins work without interruption in existing coin acceptance equipment without modification; and

(C) Such other factors that the Secretary of the Treasury, in consultation with merchants who would be affected by any change in the composition of circulating coins, vending machine, and other coin acceptor manufacturers; vending machine owners and operators; transit officials; municipal parking officials; depository institutions; coin and currency handlers; armored-car operators; car wash operators; and American-owned manufacturers of commercial coin processing equipment, considers to be appropriate and in the public interest.

Special Accommodations: This meeting is physically accessible to people with disabilities. Requests for sign language interpretation or other related accommodations should be directed to the Office of Coin Studies (see FOR FURTHER INFORMATION CONTACT) as soon as possible but no later than March 4, 2015.

This is not a public meeting. Attendance is by invitation only. Persons interested in attending the meeting should use the contact information provided in this notice no later than Monday, March 16, 2015, to request an invitation and obtain additional meeting information. Seating will be available on a first-come, first-served basis.

Input will be gathered orally at the stakeholder meeting. A transcription service provider will document the oral comments.

FOR FURTHER INFORMATION CONTACT: Leslie Schwager, Office of Coin Studies at OfficeofCoinStudies@usmint.treas.gov, or by calling 202-354-7291

Authority: 31 U.S.C. 5112(p)(3)(A); Public Law 111-302, section 2(a)(2)

Dated: January 20, 2015.
Richard A. Peterson,
Deputy Director for Manufacturing and Quality, United States Mint.

[FR Doc. 2015-01531 Filed 1-27-15; 8:45 am]

BILLING CODE P